DEPARTMENT OF JUSTICE

Drug Enforcement Administration

Michael J. Clair, D.D.S.; Revocation of Registration

On March 12, 2002, the Deputy Assistant Administrator, Office of Diversion Control, Drug Enforcement Administration (DEA), issued an Order to Show Cause to Michael Jerome Clair, D.D.S. (Dr. Clair) at his registered location in Orlando, Florida. The Order to Show Cause notified Dr. Clair of an opportunity to show cause as to why DEA should not revoke his DEA Certificate of Registration, BC1867172 under 21 U.S.C. 824(a), and deny any pending applications for renewal or modification of that registration. Specifically, the Order to Show Cause alleged that Dr. Clair was without state license to handle controlled substances in the State of Florida. The Order to Show Cause also notified Dr. Clair that should no request for a hearing be filed within 30 days, his hearing right would be deemed waived.

As alluded to above, the Order to Show Cause was sent by certified mail to Dr. Clair at his registered address, however, the order was returned to DEA unclaimed. On April 19, 2002, DEA investigators hand delivered the Order to Show Cause to the aforementioned registered address where investigators left the order with Dr. Clair's wife. DEA has not received a request for hearing or any other reply from Dr. Clair or anyone purporting to represent him in this matter.

Therefore, the Deputy Administrator, finding that (1) 30 days have passed since the receipt of the Order to Show Cause, and (2) no request for a hearing having been received, concludes that Dr. Clair is deemed to have waived his hearing right. After considering material from the investigative file in this matter, the Deputy Administrator now enters his final order without a hearing pursuant to 21 CFR 1301.43(d) and (e) and 1301.46.

The Deputy Administrator finds that Dr. Clair is currently registered with DEA as a practitioner authorized to handle controlled substances in Schedules II through V. In or around September 2001, Dr. Clair sought to renew his DEA registration when he submitted an undated application for renewal. In response to a question on the application which asks the applicant whether he has ever had a state professional license or controlled substance registration revoked, suspended, denied, restricted, or placed on probation, Dr. Clair replied in the affirmative. He supplemented that response with a written explanation where he asserted that his Maryland dental license had been revoked in August 2000 for a period of five years, but the revocation action was “not related in any way to the prescribing of controlled substances.” Dr. Clair further wrote that he is “* * * actively licensed in [Florida] and [Massachusetts].”

The Deputy Administrator's review of the investigative file reveals that on September 17, 2001, the State of Florida Board of Dentistry (Dental Board) entered a Final Order revoking Dr. Clair's state license to practice dentistry. The Dental Board's action was taken in response to the revocation of Dr. Clair's license to practice in the State of Maryland on August 12, 1999. The Dental Board also based its action in part upon findings that while practicing dentistry in Maryland, Dr. Clair performed unnecessary dental procedures on patients and encourage dentists who worked for him to do the same.

Despite assertions of professional good standing in Florida which accompanied his most recent DEA renewal application, there is no evidence before the Deputy Administrator to rebut findings that Dr. Clair's Florida dental license has been revoked and has not been reinstated. Therefore, the Deputy Administrator finds that since Dr. Clair is not currently authorized to practice dentistry in Florida, it is reasonable to infer that he is not authorized to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Richard J. Clement, M.D., 68 FR 12103 (2003); Dominick A. Ricci, M.D., 58 FR 51104 (1993); Bobby Watts, M.D., 53 FR 11919 (1988).

Here, it is clear that Dr. Clair is not licensed to handle controlled substances in Florida, where he is registered with DEA. Therefore, he is not entitled to maintain that registration.

Accordingly, the Deputy Administrator of the Drug Enforcement Administration, pursuant to the authority vested in him by 21 U.S.C. 823 and 824 and 28 CFR 0.100(b) and 0.104, hereby orders that DEA Certificate of Registration, BC1867172, issued to Michael Jerome Clair, D.D.S., be, and it hereby is, revoked. The Deputy Administrator further orders that Dr. Clair's pending application for renewal of the aforementioned registration be, and it hereby is, denied. This order is effective June 9, 2003.

Dated: April 21, 2003.
John B. Brown, III,
Deputy Administrator.

[FR Doc. 03-11431 Filed 5-7-03; 8:45 am]

BILLING CODE 4410-09-M